GENERAL SERVICES ADMINISTRATION

FAI-2007-N01

Federal Acquisition Institute/Defense Acquisition University Vendor Meeting

AGENCY: Office of the Chief Acquisition Officer, GSA

ACTION: Notice of meeting.

SUMMARY: The Federal Acquisition Institute (FAI) and the Defense Acquisition University (DAU) will hold a vendor meeting to provide information on shared initiatives and activities. FAI will describe plans and requirements for training related services under the Acquisition Workforce Training Fund (AWTF).

FAI and DAU work together to address many of the acquisition workforce training needs of the Federal government. Partnering with DAU enables FAI to build upon existing DAU training, develop governmentwide curriculum, and promote a cohesive and agile workforce. At the vendor meeting, DAU will present information on recent contracting curriculum changes. FAI will discuss how the curriculum changes impact the federal acquisition workforce.

WHO SHOULD ATTEND? Training developers, vendors with Commercial-Off-The-Shelf (COTS) training products, vendors with capabilities related to the full Instructional System Design (ISD) methodologies, and acquisition training experts.

The meeting will be held January 24, 2007 from 10:00 a.m. to 12:00 p.m., GSA Auditorium located at 1800 F Street, NW, Washington, D.C. Register by e-mail: maria_hernandez@sra.com, or telphone (703) 284-6988.

FOR FURTHER INFORMATION CONTACT: Ms. Maria Hernandez, by telephone at 703-284-6988 or by e-mail at maria_hernandez@sra.com.

Dated: January 8, 2007.
Rachael M. Lerum,
Procurement Analyst, Office of National & Regional Acquisition Development.

[FR Doc. E7-297 Filed 1-11-07; 8:45 am]

BILLING CODE 6820-61-S